DEPARTMENT OF COMMERCE

International Trade Administration

(A-449-804)

Notice of Final Results of Antidumping Duty Administrative Review: Steel Concrete Reinforcing Bars from Latvia

AGENCY: Import Administration, International Trade Administration, Department of Commerce.

SUMMARY: On June 10, 2004, the Department of Commerce (the Department) published the preliminary results of its second administrative review of the antidumping duty order on steel concrete reinforcing bars (rebar) from Latvia. The review covers one producer of the subject merchandise. The period of review (POR) is September 1, 2002, through August 31, 2003. Based on our analysis of comments received, these final results differ from the preliminary results. The final results are listed below in the Final Results of Review section.

EFFECTIVE DATE: December 14, 2004.

FOR FURTHER INFORMATION CONTACT: Daniel O'Brien at (202) 482-1376 or Shane Subler at (202) 482-0189; AD/CVD Operations, Office 1, Import Administration, International Trade Administration, U.S. Department of Commerce, 14th Street & Constitution Avenue, NW, Washington, DC 20230.

SUPPLEMENTARY INFORMATION:

Background

On June 10, 2004, the Department published in the Federal Register the preliminary results of the second administrative review of the antidumping duty order on rebar from Latvia. See Notice of Preliminary Results of Antidumping Duty Administrative Review: Steel Concrete Reinforcing Bars from Latvia, 69 FR 32508 (June 10, 2004) (Preliminary Results).

We invited parties to comment on the Preliminary Results. On July 13, 2004, we received a case brief from the Rebar Trade Action Coalition (RTAC) and its individual members, the petitioners in the proceeding. On July 19, 2004, we received a rebuttal brief from the sole respondent, Joint Stock Company Liepajas Metalurgs (LM).¹ In addition, on August 26, 2004, we released a supplemental questionnaire to LM. We provided an opportunity for interested parties to submit comments on any new factual information that LM submitted in response to the questionnaire. LM submitted its supplemental questionnaire response on September 2, 2004. The petitioners submitted comments on September 14, September 21, and September 24, 2004.² The respondents submitted comments on September 17, 2004. We did not hold a public hearing, as none was requested.

¹ On August 2, 2004, we rejected both the petitioners' case brief and the respondent's rebuttal brief because both included unsolicited new factual information submitted past the Department's regulatory deadline. The respondent submitted its revised rebuttal brief on August 4, 2004; the petitioners submitted their revised case brief on August 9, 2004.

² On September 24, 2004, acting in accordance with the Department's regulations, we rejected the petitioners' three sets of comments because they contained information that went beyond a rebuttal, clarification, or correction of the information in LM's supplemental response. We also instructed LM to eliminate any references to this information in its September 17, 2004, comments. The petitioners submitted revised versions of their three sets of comments on September 28, 2004; the respondents submitted a revised set of comments on September 29, 2004.

Scope of the Order

For purposes of this order, the product covered is all steel concrete reinforcing bars sold in straight lengths, currently classifiable in the Harmonized Tariff Schedule of the United States (HTSUS) under item number 7214.20.00 or any other tariff item number. Specifically excluded are plain rounds (i.e., non-deformed or smooth bars) and rebar that has been further processed through bending or coating. The HTSUS subheading is provided for convenience and customs purposes. The written description of the scope of this proceeding is dispositive.

Analysis of Comments Received

The issues raised in the case briefs by parties to this administrative review are addressed in the Issues and Decision Memorandum to Joseph A. Spetrini, Acting Assistant Secretary for Import Administration, from Barbara Tillman, Acting Deputy Assistant Secretary (Decision Memorandum), which is hereby adopted by this notice. A list of the issues addressed in the Decision Memorandum is appended to this notice. The Decision Memorandum is on file in Room B-099 of the main Commerce building, and can also be accessed directly on the Web at www.ia.ita.doc.gov/frn. The paper copy and electronic version of the Decision Memorandum are identical in content.

Changes Since the Preliminary Results

Based on our analysis of comments received, we have corrected three calculation errors. These adjustments are discussed in detail in the Decision Memorandum.

Final Results of Review

As a result of our review, we determine that the following weighted-average margin exists for the period of September 1, 2002, through August 31, 2003:

Producer | Weighted-Average Margin (Percentage)
Joint Stock Company Liepajas Metalurgs | 3.01

Assessment

The Department will determine, and U.S. Customs and Border Protection (CBP) shall assess, antidumping duties on all appropriate entries, pursuant to 19 CFR 351.212(b). The Department calculated importer-specific duty assessment rates on the basis of the ratio of the total amount of antidumping duties calculated for the examined sales to the total entered value of the examined sales for that importer. Where the assessment rate is above de minimis, we will instruct CBP to assess duties on all entries of subject merchandise by that importer. The Department will issue appropriate assessment instructions directly to CBP within 15 days of publication of these final results of review.

Cash Deposits

Furthermore, the following deposit requirements will be effective upon publication of the final results of this administrative review for all shipments of rebar from Latvia entered, or withdrawn from warehouse, for consumption on or after the publication date of these final results, as provided by section 751(a) of the Tariff Act of 1930, as amended (the Act): (1) for LM, the cash deposit rate will be 3.01 percent; (2) for merchandise exported by producers or exporters not covered in this review but covered in a previous segment of this proceeding, the cash deposit rate will continue to be the company-specific rate published in the most recent final results in which that producer or exporter participated; (3) if the exporter is not a firm covered in this review or in any previous segment of this proceeding, but the producer is, the cash deposit rate will be that established for the producer of the merchandise in these final results of review or in the most recent final results in which that producer participated; and (4) if neither the exporter nor the producer is a firm covered in this review or in any previous segment of this proceeding, the cash deposit rate will be 17.21 percent, the “All Others” rate established in the less-than-fair-value investigation. These deposit requirements shall remain in effect until publication of the final results of the next administrative review.

This notice also serves as a final reminder to importers of their responsibility under 19 CFR 351.402 (f) to file a certificate regarding the reimbursement of antidumping duties prior to liquidation of the relevant entries during this review period. Failure to comply with this requirement could result in the Secretary's presumption that reimbursement of antidumping duties occurred, and in the subsequent assessment of double antidumping duties.

This notice also is the only reminder to parties subject to administrative protective order (APO) of their responsibility concerning the return or destruction of proprietary information disclosed under APO in accordance with 19 CFR 351.305. Timely written notification of the return/destruction of APO materials or conversion to judicial protective order is hereby requested. Failure to comply with the regulations and the terms of an APO is a sanctionable violation.

We are issuing and publishing these results and notice in accordance with sections 751(a)(1) and 777(i)(1) of the Act.

Dated: December 7, 2004.
Joseph A. Spetrini,
Acting Assistant Secretary for Import Administration.

APPENDIX

Comment 1: LM's Reported Scrap Prices

Comment 2: The Department's Treatment of LM's Merchandise Reported as “Off-spec”

Comment 3: Calculation Errors

[FR Doc. E4-3643 Filed 12-13-04; 8:45 am]

BILLING CODE 3510-DS-S